DEPARTMENT OF HOMELAND SECURITY

Federal Emergency Management Agency

Agency Information Collection Activities: Proposed Collection; Comment Request

AGENCY: Federal Emergency Management Agency, Department of Homeland Security.

ACTION: Notice and request for comments.

SUMMARY: The Federal Emergency Management Agency, as part of its continuing effort to reduce paperwork and respondent burden, invites the general public and other Federal agencies to take this opportunity to comment on a proposed extension of a previously approved information collection. In accordance with the Paperwork Reduction Act of 1995, this notice seeks comments concerning the Individual and Family Grant (IFG) Program and the Individuals and Households Program—Other Needs Assistance (IHP-ONA)

SUPPLEMENTARY INFORMATION: The Robert T. Stafford Disaster Relief and Emergency Assistance Act, Public Law 93-288, as amended, 44 CFR 206.110 and 44 CFR 206.131, are the statutory and regulatory provisions that governs the programs, why the data is needed, and the purpose of the data collection. This collection of information is essential to the effective monitoring and management of the IFG/IHP-ONA Program by FEMA Regional Office staff who have oversight responsibility of ensuring that States perform and adhere to FEMA regulations and policy guidance. The collection comprises a series of forms and reports, which assist Regional staff in monitoring program delivery to disaster applicants and complying with other Federal Requirements (flood insurance, environment assessments and floodplain management).

Collection of Information

Title: Individual and Family Grant (IFG) and the Individuals and Households Program—Other Needs Assistance (IHP-ONA).

Type of Information Collection: Extension of a previously approved collection.

OMB Number: 1660-0018.

Form Numbers: FEMA Form 76-27, Individual Assistance Initial Report; FEMA Form 76-28, Individual Assistance Status Report; FEMA Form 76-29, Individual Assistance Final Statistical Report; FEMA Form 76-32, Worksheet for Case File Reviews; FEMA Form 76-34, Checklist for IFG/IHP-ONA Program Review; FEMA Form 76-38, Floodplain Management Analysis.

Abstract: This collection of information is essential to the effective monitoring and management of the IFG/IHP-ONA Program by FEMA Regional Office staff who have oversight responsibility of ensuring that the State perform and adhere to FEMA regulations and policy guidance.

Affected Public: Federal, State, local or tribal governments.

Estimated Total Annual Burden Hours: 301 hours.

Annual Burden Hours
Project/activity (survey, form(s), focus group, worksheet, etc.) | No. of respondents: (A) | Frequency of responses: (B) | Burden hours per respondent: (C) | Annual responses: (A×B ) | Total annual burden hours: (A×B×C)
FF 76-27 | 40 | 1 | .25 | 40 | 10
FF 76-28 | 40 | 26 | .08 | 1,040 | 87
FF 76-29 | 40 | 1 | .50 | 40 | 20
FF 76-32 | 40 | 1 | .50 | 40 | 20
FF 76-34 | 40 | 1 | 4.00 | 40 | 160
FF 76-38 | 40 | 1 | 2.00 | 2 | 4
Total | 40 |  | 7.33 | 1,202 | 301

Estimated Cost: Total cost to all respondents combined is estimated at $6, 239.00 with average cost per respondent of $151.00. The total estimated annual cost to the Federal Government is $13,200.00.

Comments: Written comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before June 13, 2006.

ADDRESSES: Interested persons should submit written comments to Chief, Records Management Section, Information Resources Management Branch, Information Technology Services Division, Federal Emergency Management Agency, 500 C Street, SW., Room 316, Washington, DC 20472.

FOR FURTHER INFORMATION CONTACT: Contact Michael Gancie, Program Specialist, (202) 314-5505 for additional information. You may contact the Records Management Branch for copies of the proposed collection of information at facsimile number (202) 646-3347 or e-mail address: FEMA-Information-Collections@dhs.gov.

Dated: April 5, 2006.
Deborah Moradi,
Acting Branch Chief, Information Resources Management Branch, Information Technology Services Division.

[FR Doc. E6-5535 Filed 4-13-06; 8:45 am]

BILLING CODE 9110-10-P